DEPARTMENT OF TRANSPORTATION

Federal Aviation Administration

[Summary Notice No. 2015-15]

Petition for Exemption; Summary of Petition Received; Gus Christopher Toulatos

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before June 8, 2015.

ADDRESSES: Send comments identified by docket number FAA-2015-0646 using any of the following methods:

• Federal eRulemaking Portal: Go to http://www.regulations.gov and follow the online instructions for sending your comments electronically.

• Mail: Send comments to Docket Operations, M-30; U.S. Department of Transportation.

• (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Keira Jones (202) 267-4024, Office of Rulemaking, Federal Aviation Administration, 800 Independence Avenue SW., Washington, DC 20591.

This notice is published pursuant to 14 CFR 11.85.

Issued in Washington, DC, on May 14, 2015.
Lirio Liu,
Director, Office of Rulemaking.

Petition for Exemption

Docket No.: FAA-2015-0646

Petitioner: Gus Christopher Toulatos

Section(s) of 14 CFR Affected: §§ 61.17 (b)(1), 61.39 (b)(1), and 61.156

Description of Relief Sought

Mr. Toulatos seeks relief from § 61.17(b)(1) to allow for the reinstatement of his expired temporary airman certificate so that he may obtain a permanent ATP certificate with an airplane category multiengine class rating. Mr. Toulatos also requests relief from § 61.39(b)(1) to allow for the validation of his successful completion of the practical test for an ATP certificate even though it was completed with an expired knowledge test report. As an alternative to the relief requested for §§ 61.17 and 61.39, Mr. Toulatos seeks relief from § 61.156 to enable him to apply for the knowledge test for an ATP certificate with an airplane category multiengine class rating without completing the ATP CTP. Mr. Toulatos would then complete a new ATP certificate check.

Project No.: AFS-15-877-E

Project Officer:

ARM-101:KJones:3/20/2015:Doc# 43190

ARM-1/100/104:Program Office AFS-200

MR. GREGORY WINSTON, ESQ.

COUNSEL FOR GUS TOULATOS

GUS CHRISTOPHER TOULATOS

1977 ANNAPOLIS EXCHANGE PARKWAY, SUITE 300

ANNAPOLIS, MARYLAND 21401

[FR Doc. 2015-12089 Filed 5-18-15; 8:45 am]

BILLING CODE 4910-13-P